DEPARTMENT OF TRANSPORTATION

Federal Transit Administration

Environmental Impact Statement: Metrocenter Corridor in Phoenix, AZ

AGENCY: Federal Transit Administration, DOT.

ACTION: Notice of intent to prepare an environmental impact statement (EIS).

SUMMARY: The Federal Transit Administration (FTA) and Valley Metro Rail, Inc., intend to prepare an Alternatives Analysis (AA) and an Environmental Impact Statement (EIS) in accordance with the National Environmental Policy Act (NEPA) on a proposal by Valley Metro Rail, Inc. to provide additional transit service to the northwest portion of the City of Phoenix. The AA/EIS will consider the following alternatives: (1) A No-Build Alternative, consisting of improvements contained in the Maricopa Association of Governments (MAG) Long Range Transportation Plan and the Phoenix Transit Plan and programmed improvements with the exception of connections to the planned Central Phoenix/East Valley Light Rail Transit Project that is scheduled to begin operation in December 2006; (2) Transportation System Management Alternative (TSM), consisting of all reasonable cost-effective transit service improvements within the Metrocenter Corridor short of a major investment in a New Starts project; (3) Bus Rapid Transit (BRT) Alternatives; (4) Light Rail Transit (LRT) At Grade Alternatives; and (5) LRT Aerial Alternatives. The type, location, and need for ancillary facilities, such as maintenance facilities, will also be considered for each alternative. In addition, alternatives that are identified from the scoping process will be evaluated in the AA. Scoping will be accomplished through correspondence and discussions with interested persons; organizations; and Federal, State, and local agencies; and through public and agency meetings. Depending on the outcome of the scoping process and the analysis of a wide range of transit alternatives, a Locally Preferred Alternative (LPA) will be selected and evaluated in the EIS. The EIS will evaluate the potential impacts of the selected investment strategy (the Build Alternative) and a No-Build Alternative.

DATES: Comment Due Date: Written comments on the scope of alternatives and impacts to be considered in the AA/EIS must be received no later than January 27, 2004, and must be sent to Valley Metro Rail, Inc. at the address indicated below.

Scoping Meetings: Valley Metro Rail, Inc. will conduct two identical scoping meetings for the public. These meetings will be held on January 13, 2004, from 7 p.m. to 9 p.m. at the Westwind Preparatory Academy Charter High School, located at 2045 West Northern Avenue, Phoenix, Arizona; and January 15, 2004, from 6 p.m. to 8 p.m. at the Orangewood Elementary School, located at 7337 North 19th Avenue, Phoenix, Arizona. In addition, a scoping meeting for governmental agencies will be held on January 20, 2004, from 2 p.m. to 4 p.m. at the Valley Metro Rail, Inc. LRT Board Room, located at 411 North Central Avenue, Suite 200, Phoenix, Arizona.

ADDRESSES: Written comments should be sent to Mr. Jim Mathien, Metrocenter Corridor Study Project Manager, Valley Metro Rail, Inc., 411 North Central Avenue, Suite 200, Phoenix, Arizona 85004. e-mail: jmathien@valleymetro.org. Phone: (602) 744-5598. To be added to the mailing list, contact Mr. Jim Mathien at the address listed above. Please specify the mailing list for the Metrocenter Corridor Study Alternatives Analysis/Draft Environmental Impact Statement (AA/DEIS). Persons with special needs such as sign language interpretation should contact Ruben Landa, Public Involvement Coordinator, Valley Metro Rail, Inc., 411 North Central Avenue, Suite 200, Phoenix, Arizona 85004. E-mail: rlanda@valleymetro.org. Phone: (602) 495-8230. The dates and addresses of the scoping meetings are given in the DATES section above. All locations are accessible to people with disabilities.

FOR FURTHER INFORMATION CONTACT: To request a scoping information packet, contact Mr. Jim Mathien, Metrocenter Corridor Study Project Manager, Valley Metro Rail, Inc., 411 North Central Avenue, Suite 200, Phoenix, Arizona 85004. E-mail: jmathien@valleymetro.org. Phone: (602) 744-5598. The Federal agency contact is Mr. Hymie Luden, Office of Planning and Program Development, FTA, 201 Mission Street, Room 2210, San Francisco, CA 94105. Phone: (415) 744-2732.

SUPPLEMENTARY INFORMATION:

I. Description of Study Area and Scope

The Federal Transit Administration (FTA), as joint lead agency with the Valley Metro Rail, Inc., will prepare an AA/EIS on a proposal to improve transit service in an approximately six mile-long corridor in northwest Phoenix, Arizona. The study area for the Metrocenter Corridor is bounded by Missouri Avenue to the south; 15th Avenue to the east; Cholla Street to the north; and 31st Avenue to the west. Most of the study area is densely developed with a mixture of urban land uses. Although not a part of the formal AA/EIS process for the Metrocenter Corridor Project, a secondary study area defined as the “Future Deer Valley Core Connection Study Area” will also be considered to identify opportunities for future transportation connections to that area should Valley Metro Rail, Inc. later decide to move forward with that potential project. The secondary study area is on the north side of the primary study area and is bounded by Dunlap Avenue to the south; 15th Avenue to the east; Rose Garden Lane to the north; and 31st Avenue to the west. Any further detailed planning and design for a future Deer Valley Core connection would be prepared in accordance with NEPA. Valley Metro Rail, Inc. will perform conceptual engineering for transit alternatives within the Metrocenter Corridor for the AA/DEIS that satisfies NEPA requirements. In addition, a financial plan will be developed that examines alternative funding sources.

II. Purpose and Need

The Metrocenter area is a major employment and activity center. The study corridor continues to experience significant growth in population and jobs. Along with this growth, traffic congestion and capacity deficiencies are expected to increase despite planned transportation improvements. Inadequate transit service has hampered access to this area and to other Valley destinations, other than by automobile. A major transit investment is recognized as a feasible alternative to providing additional capacity within this corridor.

The Metrocenter Corridor Project was included in the City of Phoenix's Transit 2000 ballot initiative that was passed by the voters in 2000 and provides a 0.4% sales tax to help fund the City's transit program. The project also is included in the currently approved Maricopa Association of Governments (MAG) financially constrained Long Range Transportation Plan (LRTP).

III. Alternatives

In 1999, a Major Investment Study (MIS) was completed for a proposed transit system from the northern end-of-line station of the planned Central Phoenix/East Valley Light Rail Transit Project (CP/EV LRT) continuing north and west into Phoenix and Glendale. The CP/EV LRT is scheduled to begin construction in late 2004. The MIS evaluated and recommended an appropriate transit technology and corridor alignment options. The study concluded that light rail transit (LRT) was the appropriate technology for the Metrocenter Corridor Connection. The MIS recommended 19th Avenue with various subalignments to the Metrocenter Shopping Center as the best alignment option(s) for this study corridor. Although the MIS made these recommendations, it does not meet current FTA requirements for Alternatives Analysis (AA). Therefore, the AA will re-evaluate both technology modes as well as alignment options within the study area. At a minimum, the alternatives to be considered include:

• No-Build Alternative;

• Transportation System Management (TMS)—all reasonable cost-effective transit service improvements short of an investment in a New Starts project;

• Bus Rapid Transit (BRT);

• LRT At Grade; and

• LRT Aerial.

Specific alignment alternatives include, but are not limited to: (1) 19th Avenue Corridor; (2) I-17 Freeway Corridor; and (3) 27th Avenue Corridor. These alternatives will be developed further during the preparation of the AA/DEIX. Additional reasonable Build Alternatives suggested during the scoping process, including those involving other modes, may be considered.

IV. Probable Effects

The purpose of the EIS is to fully disclose the environmental consequences of building and operating a major capital investment in the Metrocenter Corridor in advance of any decisions to commit substantial financial or other resources towards its implementation. The EIS will explore the extent to which study alternatives and alignment options result in environmental impacts and will discuss actions to reduce or eliminate such impacts.

Environmental issues to be examined in the EIS include: potential changes to the physical environment (natural resources, air quality, noise, water quality, geology, visual); changes in the social environment (land use, development, business and neighborhood disruptions); changes in traffic and pedestrian circulation; changes in transit service and patronage; associated changes in traffic congestion; and impacts on parklands and historic sites. Impacts will be identified both for the construction period and for the long-term operation of the alternatives. The proposed evaluation criteria include transportation, social, economic, and financial measures, as required by current Federal (NEPA) environmental laws and the implementing regulations of the Council on Environmental Quality and of FTA.

To ensure that the full range of issues related to this proposed action will be addressed and all significant issues identified, comments and suggestions are invited from all interested parties. Comments or questions concerning this proposed action and the EIS should be directed to the Valley Metro Rail, Inc. Manager as noted in the ADDRESSES section above.

V. FTA Procedures

To streamline the NEPA process and to avoid duplication of effort, the agencies involved in the scoping process will consider the results of any previous planning studies or financial feasibility studies prepared in support of a decision by the Maricopa Association of Governments (MAG) to include a particular alternative in the regional transportation plan for metropolitan Phoenix. Prior transportation planning studies may be pertinent to establishing the purpose and need for the proposed action and the range of alternatives to be evaluated in detail in the AA/EIS. Depending on the outcome of the scoping process and the analysis of a wide range of transit alternatives, a Locally Preferred Alternative (LPA) will be selected and evaluated in the Draft EIS. The Draft EIS will be prepared simultaneously with conceptual engineering for the alternatives, including station and alignment options. The Draft EIS process will address the potential use of Federal funds for the proposed action, as well as assess the social, economic, and environmental impacts of the station and alignment alternatives. Station designs and any alignment options will be refined to minimize and mitigate any adverse impacts.

After publication, the Draft EIS will be available for public and agency review and comment, and a public hearing will be held. Based on the Draft EIS and comments received, the LPA may be refined, and Valley Metro Rail, Inc. will further assess the LPA in the Final EIS and will apply for FTA approval to initiate Preliminary Engineering of the LPA.

Issued on: December 12, 2003.
F. James Kenna,
Deputy Regional Administrator, Region IX.

[FR Doc. 03-31141 Filed 12-16-03; 8:45 am]

BILLING CODE 4910-57-M